DEPARTMENT OF ENERGY

Federal Energy Regulatory Commission

[Docket No. CP17-464-000]

Rover Pipeline LLC; Notice of Schedule for Environmental Review of the Majorsville Compressor Station Amendment

On May 17, 2017, the Federal Energy Regulatory Commission (Commission or FERC) received a variance request from Rover Pipeline LLC (Rover) under Docket No. CP15-93-000 requesting to increase the approved delivery capacity at Rover's Majorsville Compressor Station by 100 million cubic feet per day (MMcf/d). The request requires the issuance of a Certificate of Public Convenience and Necessity pursuant to section 7(c) of the Natural Gas Act and was processed as an amended application rather than a variance.

On June 16, 2017, the Commission issued its Notice of Application for the Majorsville Compressor Station Amendment, now being considered in Docket No. CP17-464-000. Among other things, that notice alerted agencies issuing federal authorizations of the requirement to complete all necessary reviews and to reach a final decision on a request for a federal authorization within 90 days of the date of issuance of the Commission staff's Environmental Assessment (EA) for the project. This instant notice identifies the FERC staff's planned schedule for the completion of the EA for the project.

Schedule for Environmental Review

Issuance of EA—November 1, 2017.

90-day Federal Authorization Decision Deadline—January 30, 2018.

If a schedule change becomes necessary, additional notice will be provided so that the relevant agencies are kept informed of the project's progress.

Project Description

Rover proposes to install a third 3,550 horsepower natural gas compressor unit at the Majorsville Compressor Station ¹ and a new equipment run at the Majorsville Meter Station in Marshall County, West Virginia. The new unit would bring the Majorsville Compressor Station to a total of 10,650 horsepower. The proposal would increase the point capacity of the Majorsville Compressor Station and the Majorsville Meter Station from 300 MMcf/d to 400 MMcf/d. Rover would house the new unit (and the previously approved units) by expanding the length of the currently under construction compressor building. Rover has not proposed to expand the station boundary beyond the previously approved limits.

¹ The Majorsville Compressor Station was approved by the Commission on February 2, 2017, in Docket No. CP15-93-000 as a component of the Rover Pipeline Project and is currently under construction.

Background

On August 4, 2017, the Commission issued a Notice of Intent to Prepare an Environmental Assessment for the Proposed Majorsville Compressor Station Amendment and Request for Comments on Environmental Issues (NOI). The NOI was sent to federal, state, and local government representatives and agencies; environmental and public interest groups; and other interested parties. It was also sent to all affected landowners (as defined in the Commission's regulations) who are within 0.5 mile of the Majorsville Compressor Station. In response to the NOI, the Commission received comments from the U.S. Environmental Protection Agency (EPA). The primary issues raised by the EPA are purpose and need, alternatives, and air quality and noise.

The EPA is currently participating as a cooperating agency in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the eLibrary link, select General Search from the eLibrary menu, enter the selected date range and Docket Number excluding the last three digits (i.e., CP17-464), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: October 17, 2017.
Kimberly D. Bose,
Secretary.

[FR Doc. 2017-22921 Filed 10-20-17; 8:45 am]

BILLING CODE 6717-01-P